DEPARTMENT OF TRANSPORTATION

Pipeline and Hazardous Materials Safety Administration

49 CFR Part 192

[Docket No. PHMSA-2025-0114]

RIN 2137-AF84

Pipeline Safety: Eliminating Burdensome and Duplicative Deadlines for Gas Pipeline Coating Damage Assessments and Remedial Actions

AGENCY: Pipeline and Hazardous Materials Safety Administration (PHMSA), Department of Transportation (DOT).

ACTION: Notice of proposed rulemaking (NPRM).

SUMMARY: PHMSA is proposing to revise the regulations related to coating damage assessments and remedial actions for gas transmission pipeline operators by adjusting the timeframe in which operators must perform external anti-corrosion coating assessments and any repairs following an unsatisfactory assessment result. This proposed change will provide significant cost savings to gas transmission pipeline operators, eliminate ineffective regulations, and simplify current requirements.

DATES: Persons interested in submitting written comments on this NPRM must do so by September 2, 2025.

ADDRESSES: You may submit comments identified by the Docket Number PHMSA-2025-0114 using any of the following methods:

E-Gov Web: https://www.regulations.gov. This site allows the public to enter comments on any Federal Register notice issued by any agency. Follow the online instructions for submitting comments.

Mail: Docket Management System: U.S. Department of Transportation, 1200 New Jersey Avenue SE, West Building Ground Floor, Room W12-140, Washington, DC 20590-0001.

Hand Delivery: U.S. DOT Docket Management System: West Building Ground Floor, Room W12-140, 1200 New Jersey Avenue SE, between 9 a.m. and 5 p.m., Monday through Friday, except Federal holidays.

Fax: 1-202-493-2251.

For commenting instructions and additional information about commenting, see SUPPLEMENTARY INFORMATION.

FOR FURTHER INFORMATION CONTACT: Robert Jagger, Senior Transportation Specialist, by telephone at 202-366-4361 or by email at robert.jagger@dot.gov.

SUPPLEMENTARY INFORMATION:

I. General Discussion

PHMSA is proposing to revise the current requirements governing the timelines for operators to perform assessments of external anti-corrosion coating following installation of pipe in a ditch (see §§ 192.319(d) and 192.461(f)) and to complete remedial actions following an unsatisfactory assessment (see §§ 192.319(f) and 192.461(h)). The existing requirements state that, for certain projects, operators must perform coating damage assessments on the pipeline using direct current voltage gradient (DCVG) surveys, alternating current voltage gradient (ACVG) surveys, or other technology that provides comparable information about the integrity of the pipeline's coating “promptly” following the completion of any backfilling of the trench (and in any event no later than 6 months following in-service date of the pipeline). The existing requirements also direct operators to develop remedial action plans, and apply for any necessary permits, within 6 months of completing an assessment that identifies coating deficiencies.

PHMSA has preliminarily determined that these provisions are impractical, unduly burdensome, and unnecessary. The approach in §§ 192.319(d) and 192.461(f) of linking assessment performance deadlines to the date of backfill completion is often difficult to implement, as operators and regulators cannot always determine when backfilling has officially started or completed; in fact, there might be numerous backfilling dates throughout a project's duration. That uncertainty is compounded by the use of vague durational language (“promptly [after the backfill]”) in each regulatory provision.

Similarly, the approach in §§ 192.319(f) and 192.419(h) of linking timelines based on the date of application for required permits has also proven challenging in practice. Pipeline projects can involve multiple permits—none of which would be issued by PHMSA—applied for and obtained at different times; operators must incur administrative costs associated with tracking the status of these permits to ensure compliance with PHMSA regulations.

Industry trade associations have noted that these implementation challenges arising from the current text of §§ 192.319 and 192.461 have real-world financial consequences for operators who often choose to respond to this regulatory uncertainty by erring on the side of caution and performing more (expensive) coating assessments than may be necessary for evaluating the coating protection of their pipelines. Operators may also find themselves creating parallel permit tracking systems within those parts of their organizations responsible for each of compliance with PHMSA regulatory requirements and obtaining necessary construction permits (Docket No. DOT-OST-2025-0026-0897 (May 5, 2025)).

PHMSA proposes to streamline each of the above provisions to address these implementation challenges. With respect to §§ 192.319(d) and 192.461(f), PHMSA proposes to eliminate vague language (“promptly”) in the opening sentence of those provisions as well as eliminate the references to “backfill” as a milestone from which the timeline for conducting coating assessments begins. By way of substitute, PHMSA instead proposes to link assessment timelines in each provision to a milestone—the pipeline segment's in-service date—that is understood throughout the industry as a discrete moment of time memorialized in operator work management systems, and which is already referenced in provisions throughout the pipeline safety regulations (PSRs, 49 CFR parts 190-199). PHMSA proposes to eliminate references in §§ 192.319(f) and 192.419(h) to permit application dates and instead emphasize the date of the failed coating assessment for calculation of timelines for performing remedial actions.

PHMSA understands these amendments align with industry stakeholder recommendations. PHMSA does not expect these proposed regulatory amendments would adversely affect safety, as they will likely facilitate operator implementation of external corrosion protection assessment requirements by substituting discrete milestones for vague language and prolonged processes referenced in current regulatory text.

Commenting

Instructions: Please include the docket number PHMSA-2025-0114 at the beginning of your comments. If you submit your comments by mail, submit two copies. If you wish to receive confirmation that PHMSA received your comments, include a self-addressed stamped postcard. Internet users may submit comments at https://www.regulations.gov.

Note: Comments are posted without changes or edits to https://www.regulations.gov, including any personal information provided. There is a privacy statement published on https://www.regulations.gov.

Privacy Act: In accordance with 5 United States Code (U.S.C.) 553(c), DOT solicits comments from the public to inform its rulemaking process. DOT posts these comments, without edit, including any personal information the commenter provides, to https://www.regulations.gov, as described in the system of records notice (DOT/ALL-14 FDMS), which can be reviewed at https://www.dot.gov/privacy.

Confidential Business Information: Confidential Business Information (CBI) is commercial or financial information that is both customarily and actually treated as private by its owner. Under the Freedom of Information Act (FOIA, 5 U.S.C. 552), CBI is exempt from public disclosure. It is important that you clearly designate the comments submitted as CBI if: your comments responsive to this document contain commercial or financial information that is customarily treated as private; you actually treat such information as private; and your comment is relevant or responsive to this notice. Pursuant to 49 Code of Federal Regulations (CFR) 190.343, you may ask PHMSA to provide confidential treatment to information you give to the agency by taking the following steps: (1) mark each page of the original document submission containing CBI as “Confidential”; (2) send PHMSA, along with the original document, a second copy of the original document with the CBI deleted; and (3) explain why the information that you are submitting is CBI. Submissions containing CBI should be sent to Robert Jagger, PHP-30, Pipeline and Hazardous Materials Safety Administration (PHMSA), 2nd Floor, 1200 New Jersey Avenue SE, Washington, DC 20590-0001, or by email at robert.jagger@dot.gov. Any materials PHMSA receives that is not specifically designated as CBI will be placed in the public docket.

Docket: For access to the docket to read background documents or comments received, go to https://www.regulations.gov. Follow the online instructions for accessing the docket. Alternatively, you may review the documents in person at the street address listed above.

II. Regulatory Analysis and Notices

A. Legal Authority

This proposed rule is published under the authority of the Secretary of Transportation set forth in the Federal Pipeline Safety Laws (49 U.S.C. 60101 et seq.) and delegated to the PHMSA Administrator pursuant to 49 CFR 1.97.

B. Executive Order 12866; Regulatory Planning and Review

Executive Order (E.O.) 12866 (“Regulatory Planning and Review”; 58 FR 51735 (Oct. 4, 1993)), as implemented by DOT Order 2100.6B (“Policies and Procedures for Rulemaking”), requires agencies to regulate in the “most cost-effective manner,” to make a “reasoned determination that the benefits of the intended regulation justify its costs,” and to develop regulations that “impose the least burden on society.” DOT Order 2100.6B specifies that regulations should generally “not be issued unless their benefits are expected to exceed their costs.” In arriving at those conclusions, E.O. 12866 requires that agencies should consider “both quantifiable measures . . . and qualitative measures of costs and benefits that are difficult to quantify” and “maximize net benefits . . . unless a statute requires another regulatory approach.” E.O. 12866 also requires that “agencies should assess all costs and benefits of available regulatory alternatives, including the alternative of not regulating.” DOT Order 2100.6B directs that PHMSA and other Operating Administrations must generally choose the “least costly regulatory alternative that achieves the relevant objectives” unless required by law or compelling safety need.

E.O. 12866 and DOT Order 2100.6B also require that PHMSA submit “significant regulatory actions” to the Office of Information and Regulatory Affairs (OIRA) within the Executive Office of the President's Office of Management and Budget (OMB) for review. This NPRM is a not significant regulatory action pursuant to E.O. 12866; it also has not designated this rule as a “major rule” as defined by the Congressional Review Act (5 U.S.C. 801 et seq.).

PHMSA has complied with the requirements in E.O. 12866 as implemented by DOT Order 2100.6B and expects that this NPRM may result in cost savings by reducing regulatory burdens and regulatory uncertainty for pipeline facility operators that perform coating surveys and coating remediation activities following the installation, repair, or replacement of pipe. Those cost savings may also result in reduced costs for the public to whom pipeline operators generally transfer a portion of their compliance costs. The cost savings of this rulemaking could not be quantified.

C. Executive Orders 14192 and 14219

This NPRM is expected to be a deregulatory action pursuant to E.O. 14192 (“Unleashing Prosperity Through Deregulation”; (90 FR 9065 (Feb. 6, 2025)). PHMSA estimates that the total costs of the NPRM on the regulated community will be less than zero. Nor does this rulemaking implicate any of the factors identified in section 2(a) of E.O. 14219 (“Ensuring Lawful Governance and Implementing the President's `Department of Government Efficiency' Deregulatory Initiative”) indicative that a regulation is “unlawful . . . [or] that undermine[s] the national interest.” (90 FR 10583 (Feb. 25, 2025).

D. Energy-Related Executive Orders 13211, 14154, and 14156

The President has declared in E.O. 14156 (“Declaring a National Energy Emergency”; (90 FR 8353 (Jan. 29, 2025)) a national emergency to address America's inadequate energy development production, transportation, refining, and generation capacity. Similarly, E.O. 14154 (“Unleashing American Energy,” (90 FR 8353 (Jan. 29, 2025)) asserts a Federal policy to unleash American energy by ensuing access to abundant supplies of reliable, affordable energy from (inter alia) the removal of “undue burden[s]” on the identification, development, or use of domestic energy resources such as PHMSA-jurisdictional gasses and hazardous liquids. PHMSA finds this NPRM is consistent with each of E.O. 14156 and E.O. 14154. This NPRM will give affected pipeline operators regulatory certainty and cost savings from removing the requirements related to operators documenting specific dates for construction backfill activities and permit applications. PHMSA therefore expects the regulatory amendments in this NPRM will in turn increase national pipeline transportation capacity and improve pipeline operators' ability to provide abundant, reliable, affordable natural gas in response to residential, commercial, and industrial demand.

However, this NPRM is not a “significant energy action” under E.O. 13211 (“Actions Concerning Regulations That Significantly Affect Energy Supply, Distribution, or Use”; (66 FR 28355 (May 22, 2001)), which requires Federal agencies to prepare a Statement of Energy Effects for any “significant energy action.” Because this NPRM is not a significant action under E.O. 12866, it will not have a significant adverse effect on supply, distribution, or energy use, and OIRA has therefore not designated this NPRM as a significant energy action.

E. Executive Order 13132: Federalism

PHMSA analyzed this NPRM in accordance with the principles and criteria contained in E.O. 13132 (“Federalism”; 64 FR 43255 (Aug. 10, 1999)) and the Presidential Memorandum (“Preemption”) published in the Federal Register on May 22, 2009 (74 FR 24693). E.O. 13132 requires agencies to ensure meaningful and timely input by State and local officials in the development of regulatory policies that may have “substantial direct effects on the States, on the relationship between the National Government and the States, or on the distribution of power and responsibilities among the various levels of government.”

While this NPRM may operate to preempt some State requirements, it would not impose any regulation that has substantial direct effects on the States, the relationship between the National Government and the States, or the distribution of power and responsibilities among the various levels of government. Section 60104(c) of Federal Pipeline Safety Laws prohibits certain State safety regulation of interstate pipelines. Under Federal Pipeline Safety Laws, States that have submitted a current certification under section 60105(a) can augment Federal pipeline safety requirements for intrastate pipelines regulated by PHMSA but may not approve safety requirements less stringent than those required by Federal law. A State may also regulate an intrastate pipeline facility that PHMSA does not regulate. The preemptive effect of the regulatory amendments in this NPRM is limited to the minimum level necessary to achieve the objectives of the Federal Pipeline Safety Laws. Therefore, the consultation and funding requirements of E.O. 13132 do not apply.

F. Regulatory Flexibility Act

The Regulatory Flexibility Act (5 U.S.C. 601 et seq.) requires Federal agencies to conduct an Initial Regulatory Flexibility Analysis (IRFA) for an NPRM subject to notice-and-comment rulemaking under the Administrative Procedure Act unless the agency head certifies that the proposed rule in the rulemaking will not have a significant economic impact on a substantial number of small entities. E.O. 13272 (“Proper Consideration of Small Entities in Agency Rulemaking”; 67 FR 53461 (Aug. 16, 2002)) obliges agencies to establish procedures promoting compliance with the Regulatory Flexibility Act. DOT posts its implementing guidance on a dedicated web page. This NPRM was developed in accordance with E.O. 13272 and DOT implementing guidance to ensure compliance with the Regulatory Flexibility Act. The proposed rule is expected to reduce regulatory burdens. Therefore, PHMSA certifies this NPRM will not have a significant impact on a substantial number of small entities.

G. Unfunded Mandates Reform Act of 1995

The Unfunded Mandates Reform Act (UMRA, 2 U.S.C. 1501 et seq.) requires agencies to assess the effects of Federal regulatory actions on State, local, and Tribal governments, and the private sector. For any proposed rule that includes a Federal mandate that may result in the expenditure by state, local, and Tribal governments, in the aggregate of $100 million or more (in 1996 dollars) in any given year, the agency must prepare, amongst other things, a written statement that qualitatively and quantitatively assesses the costs and benefits of the Federal mandate.

This NPRM does not impose unfunded mandates under UMRA because it does not result in costs of $100 million or more (in 1996 dollars) per year for either State, local, or Tribal governments, or to the private sector.

H. National Environmental Policy Act

The National Environmental Policy Act (NEPA, 42 U.S.C. 4321 et seq.) requires that Federal agencies assess and consider the impact of major Federal actions on the human and natural environment.

PHMSA analyzed this proposed rule in accordance with NEPA and has preliminarily determined that the rulemaking will not adversely affect safety and therefore will not significantly affect the quality of the human and natural environment. The public is invited to comment on the impact of the proposed action.

I. Executive Order 13175

PHMSA analyzed this NPRM according to the principles and criteria in E.O. 13175 (“Consultation and Coordination with Indian Tribal Governments”; 65 FR 67249 (Nov. 9, 2000)) and DOT Order 5301.1A (“Department of Transportation Tribal Consultation Policies and Procedures”). E.O. 13175 requires agencies to assure meaningful and timely input from Tribal government representatives in the development of rules that significantly or uniquely affect Tribal communities by imposing “substantial direct compliance costs” or “substantial direct effects” on such communities or the relationship or distribution of power between the Federal Government and Tribes.

PHMSA assessed the impact of the NPRM and determined that it will not significantly or uniquely affect Tribal communities or Indian Tribal governments. The rulemaking's regulatory amendments have a broad, national scope; therefore, this NPRM will not significantly or uniquely affect Tribal communities, much less impose substantial compliance costs on Native American Tribal governments or mandate Tribal action. For these reasons, PHMSA has concluded that the funding and consultation requirements of E.O. 13175 and DOT Order 5301.1A do not apply.

J. Paperwork Reduction Act

The Paperwork Reduction Act (44 U.S.C. 3501 et seq.) and its implementing regulations at 5 CFR 1320.8(d) requires that PHMSA provide interested members of the public and affected agencies with an opportunity to comment on information collection and recordkeeping requests. This NPRM will not create, amend, or rescind any existing information collections.

K. Executive Order 13609 and International Trade Analysis

E.O. 13609 (“Promoting International Regulatory Cooperation”; 77 FR 26413 (May 4, 2012)) requires agencies consider whether the impacts associated with significant variations between domestic and international regulatory approaches are unnecessary or may impair the ability of American business to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements.

Similarly, the Trade Agreements Act of 1979 (Pub. L. 96-39), as amended by the Uruguay Round Agreements Act (Pub. L. 103-465), prohibits Federal agencies from establishing any standards or engaging in related activities that create unnecessary obstacles to the foreign commerce of the United States. For purposes of these requirements, Federal agencies may participate in the establishment of international standards, so long as the standards have a legitimate domestic objective, such as providing for safety, and do not operate to exclude imports that meet this objective. The statute also requires consideration of international standards and, where appropriate, that they be the basis for U.S. standards.

PHMSA engages with international standards setting bodies to protect the safety of the American public. PHMSA has assessed the effects of the direct final rule and has determined that its regulatory amendments will not cause unnecessary obstacles to foreign trade.

L. Cybersecurity and Executive Order 14028

E.O. 14028 (“Improving the Nation's Cybersecurity”; 86 FR 26633 (May 17, 2021)) directed the Federal Government to improve its efforts to identify, deter, and respond to “persistent and increasingly sophisticated malicious cyber campaigns.” PHMSA has considered the effects of the NPRM and has determined that its regulatory amendments would not materially affect the cybersecurity risk profile for pipeline facilities.

List of Subjects in 49 CFR Part 192

Natural gas, Pipeline safety, Pipelines.

In consideration of the foregoing, PHMSA proposes to revise 49 CFR part 192 as follows:

PART 192—TRANSPORTATION OF NATURAL AND OTHER GAS BY PIPELINE: MINIMUM FEDERAL SAFETY STANDARDS

1. The authority citation for part 192 continues to read as follows:

Authority: 30 U.S.C. 185(w)(3), 49 U.S.C. 5121, 60101 et. seq., and 49 CFR 1.97.

2. Amend § 192.319 by revising paragraphs (d) and (f) to read as follows:

§ 192.319 Installation of pipe in a ditch.

* * * * *

(d) If the construction project involves 1,000 feet or more of continuous backfill length along the pipeline, then no later than 6 months after placing the pipeline in service, an operator must perform an assessment to assess any coating damage and ensure the integrity of the coating using direct current voltage gradient (DCVG) surveys, alternative current voltage gradient (ACVG) surveys, or other technology that provides comparable information about the integrity of the coating. Such coating surveys must be conducted except in locations where effective coating surveys are precluded by geographical, technical, or safety reasons.

* * * * *

(f) An operator of an onshore steel transmission pipeline must develop a remedial action plan within 6 months of completing the assessment that identified the deficiency. An operator must repair any coating damage classified as severe (voltage drop greater than 60 percent for DCVG or 70 dBµV for ACVG) in accordance with section 4 of NACE SP0502 (incorporated by reference, see § 192.7) within 6 months of the assessment, or as soon as practicable after obtaining necessary permits, not to exceed 6 months after the receipt of such permits.

* * * * *

3. Amend § 192.461 by revising paragraphs (f) and (h) to read as follows:

§ 192.461 External corrosion control: Protective coating

* * * * *

(f) No later than 6 months after placing a pipeline back into service following a repair or replacement that results in 1,000 feet or more of continuous backfill length along the pipeline, an operator must perform an assessment to assess any coating damage and ensure the integrity of the coating using direct current voltage gradient (DCVG) surveys, alternating current voltage gradient (ACVG) surveys, or other technology that provides comparable information about the integrity of the coating. Such coating surveys must be conducted except in locations where effective coating surveys are precluded by geographical, technical, or safety reasons.

* * * * *

(h) An operator of an onshore steel transmission pipeline must develop a remedial action plan within 6 months of completing the assessment that identified the deficiency. The operator must repair any coating damage classified as severe (voltage drop greater than 60 percent for DCVG or 70 dBµV for ACVG) in accordance with section 4 of NACE SP0502 (incorporated by reference, see § 192.7) within 6 months of the assessment, or as soon as practicable after obtaining necessary permits, not to exceed 6 months after the receipt of such permits.

* * * * *

Issued in Washington, DC, on June 26, 2025, under the authority delegated in 49 CFR 1.97.
Benjamin D. Kochman,
Acting Administrator.

[FR Doc. 2025-12118 Filed 6-27-25; 4:15 pm]

BILLING CODE 4910-60-P